DEPARTMENT OF LABOR

Employment and Training Administration

[TA-W-71,897]

Chicopee Inc., a Subsidiary of Polymer Group, Inc., Including On-Site Leased Workers From Manpower Staffing, North Little Rock, AR; Amended Certification Regarding Eligibility To Apply for Worker Adjustment Assistance

In accordance with Section 223 of the Trade Act of 1974, as amended (“Act”), 19 U.S.C. 2273, the Department of Labor issued a Certification of Eligibility to Apply for Worker Adjustment Assistance on January 6, 2012, applicable to workers and former workers of Chicopee, Inc., a subsidiary of Polymer Group, Inc., including on-site leased workers from Manpower Staffing, North Little Rock, Arkansas (subject firm). The Notice of determination was published in the Federal Register on February 16, 2010 (75 FR 7036). The workers are engaged in employment related to the production of non-woven roll goods.

On March 19, 2012, the State of Arkansas filed a petition on behalf of maintenance workers at the subject firm (TA-W-81,428). During the investigation of TA-W-81,428, the Department determined that there was a causal nexus between subject firm's closure and the workers' separations and that, therefore, worker separations through March 1, 2012 are attributable to conditions specified in the Trade Act of 1974, as amended. The Department has also determined that, given the particular facts presented, it is appropriate to amend this certification to include workers who, due to the subject firm's compliance of federal regulations, were separated after January 6, 2012.

The Department's decision in this case is limited to the precise circumstances of this specific case and should not be considered as any indication of how the Department would proceed in other cases or in other subsequent rulemaking on this subject.

The amended notice applicable to TA-W-71,897 is hereby issued as follows:

All workers from Chicopee, Inc., a subsidiary of Polymer Group, Inc., including on-site leased workers from Manpower Staffing, North Little Rock, Arkansas, who became totally or partially separated from employment on or after July 31, 2008, through March 1, 2012, and all workers in the group threatened with total or partial separation from employment on January 6, 2010 through March 1, 2012, are eligible to apply for adjustment assistance under Chapter 2 of Title II of the Trade Act of 1074, as amended.

Signed at Washington, DC, this 30th day of April 2012.
Del Min Amy Chen,
Certifying Officer, Office of Trade Adjustment Assistance.

[FR Doc. 2012-11903 Filed 5-16-12; 8:45 am]

BILLING CODE 4510-FN-P